DEPARTMENT OF ENERGY

Federal Energy Regulatory Commission

[Docket No. EG00-127-000, et al.]

Trigen-Syracuse Energy Corporation , et al.; Electric Rate and Corporate Regulation Filings

April 13, 2000.

Take notice that the following filings have been made with the Commission:

1. Trigen-Syracuse Energy Corporation

[Docket No. EG00-127-000]

Take notice that on April 10, 2000, Trigen-Syracuse Energy Corporation, 56 Industrial Drive, Syracuse, New York 13204 (Applicant), filed with the Federal Energy Regulatory Commission (Commission) an Application for Determination of Exempt Wholesale Generator Status pursuant to Part 365 of the Commission's Regulations.

Applicant is a Delaware corporation that owns and operates a cogeneration facility in Syracuse, New York (the Facility), and is engaged exclusively in the generation of electric energy for sale at wholesale. The Facility consists of one coal-fired topping cycle cogeneration facility, with a power production capacity of approximately 80 megawatts, and associated equipment. No rate or charge for, or in connection with, the construction of the Facility, or for electric energy produced thereby (other than any portion of a rate or charge that represents recovery of the cost of a wholesale rate or charge), was in effect under the laws of any State of the United States on October 24, 1992. Copies of this application have been served upon the New York Public Service Commission and the Securities and Exchange Commission.

Comment date: May 4, 2000, in accordance with Standard Paragraph E at the end of this notice.

2. Pacific Gas and Electric Company

[Docket Nos. ER98-495-015, ER98-1614-006 and ER98-2145-006]

Take notice that on April 10, 2000, Pacific Gas and Electric Company (PG&E) filed a refund report in compliance with the Offer of Settlement filed in the above-referenced dockets on November 12, 1999 and approved by the Federal Energy Regulatory Commission (Commission) by letter order on January 14, 2000.

Comment date: May 1, 2000, in accordance with Standard Paragraph E at the end of this notice.

3. Entergy Services, Inc.

[Docket No. ER00-2132-000]

Take notice that on April 6, 2000, Entergy Services, Inc., acting as agent for Entergy Gulf States, Inc. (Entergy Gulf States), tendered for filing an unexecuted Interconnection and Operating Agreement (the Agreement), between Entergy Gulf States and Calcasieu Power, LLC.

Comment date: April 27, 2000, in accordance with Standard Paragraph E at the end of this notice.

4. The Dayton Power and Light Company

[Docket No. ER00-2156-000]

Take notice that on April 10, 2000 The Dayton Power and Light Company (Dayton) submitted service agreements establishing Conectiv Energy Supply, Inc. and Delmarva Power & Light Company as customers under the terms of Dayton's Open Access Transmission Tariff.

Copies of this filing were served upon establishing Conectiv Energy Supply, Inc. and Delmarva Power & Light Company and the Public Utilities Commission of Ohio.

Comment date: May 1, 2000, in accordance with Standard Paragraph E at the end of this notice.

5. Commonwealth Edison Company

[Docket No. ER00-2157-000]

Take notice that on April 10, 2000, Commonwealth Edison Company (ComEd) submitted for filing an Interconnection Agreement with Des Plaines Green Land Development, L.L.C. (Des Plaines).

ComEd requests an effective date of April 11, 2000 and accordingly seeks waiver of the Commission's notice requirements.

Copies of the filing were served on Des Plaines and the Illinois Commerce Commission.

Comment date: May 1, 2000, in accordance with Standard Paragraph E at the end of this notice.

6. Wisconsin Public Service Corporation

[Docket No. ER00-2158-000]

Take notice that on April 10, 2000, Wisconsin Public Service Corporation (WPSC) tendered for filing an Energy Exchange Agreement between Wisconsin Public Service Corporation and Madison Gas & Electric Company. WPSC also filed a certificate of concurrence executed by Madison Gas and Electric Company (MG&E).

WPSC requests that the Agreement be made effective May 2, 2000.

Copies of the filing were served upon Madison Gas and Electric Company and the Public Service Commission of Wisconsin.

Comment date: May 1, 2000, in accordance with Standard Paragraph E at the end of this notice.

7. Niagara Mohawk Power Corporation

[Docket No. ER00-2163-000]

Take notice that on April 10, 2000, Niagara Mohawk Power Corporation tendered for filing notice that effective April 20, 2000, Niagara Mohawk Power Corporation's Form Transmission Service Agreement, designated as Rate Schedule FERC No. 188, effective date August 31, 1993, and any supplements thereto, and filed with the Federal Energy Regulatory Commission by Niagara Mohawk is to be canceled.

Notice of the proposed cancellation has been served upon Consolidated Edison Company of New York, Inc.

Comment date: May 1, 2000, in accordance with Standard Paragraph E at the end of this notice.

8. Montaup Electric Company

[Docket No. ER00-2164-000]

Take notice that on April 10, 2000, Montaup Electric Company (Montaup) tendered for filing a modification and a notice of cancellation of an October 24, 1997 agreement, as amended on July 14, 1998, (Agreement) by and between Montaup and The Pascoag Fire District (Pascoag).

Montaup states that the purpose of this filing is to reflect the recent agreement between Montaup and Pascoag to effectuate an early termination of the Agreement under which Montaup currently supplies system capacity and energy to Pascoag.

Copies of the filing were served upon Pascoag, Montaup's jurisdictional customers and upon affected state agencies.

Comment date: May 1, 2000, in accordance with Standard Paragraph E at the end of this notice.

9. Allegheny Energy Service Corporation, on Behalf of Allegheny Energy Supply Company, LLC

[Docket No. ER00-2166-000]

Take notice that on April 10, 2000, Allegheny Energy Service Corporation on behalf of Allegheny Energy Supply Company, LLC (Allegheny Energy Supply), tendered for filing Amendment No. 5 to Supplement No. 9 to the Market Rate Tariff to incorporate a Netting Agreement with Williams Energy Marketing & Trading Company into the tariff provisions.

Allegheny Energy Supply Company requests a waiver of notice requirements to make the Amendment effective as of March 31, 2000.

Copies of the filing have been provided to the Public Utilities Commission of Ohio, the Pennsylvania Public Utility Commission, the Maryland Public Service Commission, the Virginia State Corporation Commission, the West Virginia Public Service Commission, and all parties of record.

Comment date: May 1, 2000, in accordance with Standard Paragraph E at the end of this notice.

10. Allegheny Energy Service Corporation, on Behalf of Allegheny Energy Supply Company, LLC

[Docket No. ER00-2165-000]

Take notice that on April 10, 2000, Allegheny Energy Service Corporation on behalf of Allegheny Energy Supply Company, LLC (Allegheny Energy Supply Company), tendered for filing Amendment No. 6 to Supplement No. 9 to complete the filing requirement for one (1) new Customer of the Market Rate Tariff under which Allegheny Energy Supply offers generation services.

Allegheny Energy requests a waiver of notice requirements to make service available as of November 24, 1999, to Cinergy Services, Inc.

Copies of the filing have been provided to the Public Utilities Commission of Ohio, the Pennsylvania Public Utility Commission, the Maryland Public Service Commission, the Virginia State Corporation Commission, the West Virginia Public Service Commission, and all parties of record.

Comment date: May 1, 2000, in accordance with Standard Paragraph E at the end of this notice.

11. Allegheny Energy Service Corporation, on Behalf of Monongahela Power Company, The Potomac Edison Company, and West Penn Power Company (Allegheny Power)

[Docket No. ER00-2167-000]

Take notice that on April 10, 2000, Allegheny Energy Service Corporation on behalf of Monongahela Power Company, The Potomac Edison Company and West Penn Power Company (Allegheny Power), tendered for filing Supplement No. 76 to add Orion Power MidWest to Allegheny Power's Open Access Transmission Service Tariff which has been accepted for filing by the Federal Energy Regulatory Commission in Docket No. ER96-58-000.

The proposed effective date under the Service Agreements is April 7, 2000 or a date ordered by the Commission.

Copies of the filing have been provided to the Public Utilities Commission of Ohio, the Pennsylvania Public Utility Commission, the Maryland Public Service Commission, the Virginia State Corporation Commission, and the West Virginia Public Service Commission.

Comment date: May 1, 2000, in accordance with Standard Paragraph E at the end of this notice.

12. Allegheny Energy Service Corporation on Behalf of Allegheny Energy Supply Company, LLC

[Docket No. ER00-2168-000]

Take notice that on April 10, 2000, Allegheny Energy Service Corporation on behalf of Allegheny Energy Supply Company, LLC (Allegheny Energy Supply), tendered for filing Supplement No. 37 to add one (1) new Customer to the Market Rate Tariff under which Allegheny Energy Supply offers generation services.

Allegheny Energy Supply requests a waiver of notice requirements to make service available as of March 15, 2000 to Duke Power, a division of Duke Energy Corporation.

Copies of the filing have been provided to the Public Utilities Commission of Ohio, the Pennsylvania Public Utility Commission, the Maryland Public Service Commission, the Virginia State Corporation Commission, the West Virginia Public Service Commission, and all parties of record.

Comment date: May 1, 2000, in accordance with Standard Paragraph E at the end of this notice.

13. Allegheny Energy Service Corporation on Behalf of Allegheny Energy Supply Company, LLC

[Docket No. ER00-2169-000]

Take notice that on April 10, 2000, Allegheny Energy Service Corporation on behalf of Allegheny Energy Supply Company, LLC (Allegheny Energy Supply), tendered for filing Supplement No. 36 to add one (1) new Customer to the Market Rate Tariff under which Allegheny Energy Supply offers generation services.

Allegheny Energy Supply requests a waiver of notice requirements to make service available as of April 7, 2000 to Cinergy Capital & Trading, Inc.

Copies of the filing have been provided to the Public Utilities Commission of Ohio, the Pennsylvania Public Utility Commission, the Maryland Public Service Commission, the Virginia State Corporation Commission, the West Virginia Public Service Commission, and all parties of record.

Comment date: May 1, 2000, in accordance with Standard Paragraph E at the end of this notice.

14. The Dayton Power and Light Company

[Docket No. ER00-2170-000]

Take notice that on April 10, 2000, The Dayton Power and Light Company (Dayton), tendered for filing service agreements establishing British Columbia Power Exchange Corporation, Madison Gas & Electric Co., as a customer under the terms of Dayton's Market-Based Sales Tariff.

Dayton requests an effective date of one day subsequent to this filing for the service agreements. Accordingly, Dayton requests waiver of the Commission's notice requirements.

Copies of this filing were served upon British Columbia Power Exchange Corporation, Madison Gas & Electric Co. and the Public Utilities Commission of Ohio.

Comment date: May 1, 2000, in accordance with Standard Paragraph E at the end of this notice.

15. The Dayton Power and Light Company

[Docket No. ER00-2171-000]

Take notice that on April 10, 2000, The Dayton Power and Light Company (Dayton), tendered for filing service agreements establishing with Conectiv Energy Supply, Inc., as customers under the terms of Dayton's Open Access Transmission Tariff.

Dayton requests an effective date of one day subsequent to this filing for the service agreements. Accordingly, Dayton requests waiver of the Commission's notice requirements.

Copies of this filing were served upon with Conectiv Energy Supply, Inc., and the Public Utilities Commission of Ohio.

Comment date: May 1, 2000, in accordance with Standard Paragraph E at the end of this notice.

16. The Dayton Power and Light Company

[Docket No. ER00-2172-000]

Take notice that on April 10, 2000, The Dayton Power and Light Company (Dayton), tendered for filing service agreements establishing Conectiv Energy Supply, Inc., as a customer under the terms of Dayton's Market-Based Sales Tariff.

Dayton requests an effective date of one day subsequent to this filing for the service agreements. Accordingly, Dayton requests waiver of the Commission's notice requirements.

Copies of this filing were served upon Conectiv Energy Supply, Inc. and the Public Utilities Commission of Ohio.

Comment date: May 1, 2000, in accordance with Standard Paragraph E at the end of this notice.

17. Entergy Services, Inc.

[Docket No. ER00-2133-000]

Take notice that on April 6, 2000, Entergy Services, Inc., on behalf of Entergy Arkansas, Inc., tendered for filing an Interconnection and Operating Agreement with Union Power Partners, L.P. (UPP), and a Generator Imbalance Agreement with UPP.

Comment date: April 27, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-9945 Filed 4-20-00; 8:45 am]

BILLING CODE 6717-01-P